DEPARTMENT OF TRANSPORTATION

Federal Motor Carrier Safety Administration

49 CFR Part 375

[Docket No. FMCSA-97-2979]

RIN 2126-AA32

Transportation of Household Goods; Consumer Protection Regulations; Delay of Compliance Date

AGENCY: Federal Motor Carrier Safety Administration (FMCSA), DOT.

ACTION: Interim final rule; delay of compliance date.

SUMMARY: The Federal Motor Carrier Safety Administration (FMCSA) delays the compliance date for the new part 375, Transportation of Household Goods; Consumer Protection Regulations, which was published as an interim final rule on June 11, 2003. That rule amends regulations governing the interstate transportation of household goods. On August 25, 2003, FMCSA received two petitions for reconsideration of the rule. On the same date, one of the petitioners, the American Moving and Storage Association, submitted a separate Petition for Stay of Effective Date. The reconsideration petitions address a variety of issues, both substantive and technical. The interim final rule took effect on September 9, 2003, with mandatory compliance to begin March 1, 2004. As the rule's effective date has passed, we are delaying the compliance date to gain time to consider fully the petitioners' concerns.

DATES: The compliance date of the interim final rule amending 49 CFR part 375 published at 68 FR 35066 on June 11, 2003, is delayed indefinitely. The Administration will publish a document in the Federal Register announcing the new compliance date.

FOR FURTHER INFORMATION CONTACT: Mr. Nathaniel Jackson, Household Goods Enforcement Team Leader, (MC-ECI), 202-366-6406, FMCSA, 400 Seventh Street, SW., Room 8310, Washington, DC 20590.

SUPPLEMENTARY INFORMATION: In the Motor Carrier Safety Improvement Act of 1999 (Pub. L. 106-159), which established FMCSA as a separate agency within the U.S. Department of Transportation (DOT), Congress authorized FMCSA to regulate the interstate transportation of household goods. In earlier legislation, Congress abolished the Interstate Commerce Commission and transferred the Commission's jurisdiction over household goods transportation to DOT (ICC Termination Act of 1995, Pub. L. 104-88). Prior to FMCSA's establishment, the Secretary of Transportation delegated this household goods jurisdiction to the Federal Highway Administration (FHWA).

In May 1998, FHWA published a notice of proposed rulemaking requesting comments on its proposal to amend the household goods regulations at 49 CFR part 375 and the credit regulations at part 377 (63 FR 27126, May 15, 1998). The public submitted more than 50 comments on the proposal. FMCSA modified the substance of the proposed rule in light of concerns raised by some of the commenters, including the American Moving and Storage Association, and published an interim final rule on June 11, 2003 (68 FR 35064), to become effective September 9, 2003, with mandatory compliance to begin March 1, 2004. We published an interim final rule rather than a final rule to allow the Office of Management and Budget additional time to complete its review of information collection requirements.

On August 25, 2003, FMCSA received two petitions for reconsideration of the interim final rule. The petitioners are (1) the American Moving and Storage Association and (2) United Van Lines, LLC and Mayflower Transit, LLC. On the same date, the American Moving and Storage Association submitted a separate Petition for Stay of Effective Date. The reconsideration petitions address a variety of issues, both substantive and technical. Certain of the substantive concerns will require the agency's careful analysis. The rule took effect on September 9, 2003, but compliance was not required until March 1, 2004. As the rule's effective date has passed, we are delaying the compliance date until further notice in order to consider fully the petitioners' concerns. FMCSA will publish a document in the Federal Register promulgating any necessary technical corrections and/or substantive changes, and announcing the new compliance date for the rule.

FMCSA recognizes that interstate household goods carriers will require sufficient time to prepare for compliance with this rule. Prior to the compliance date, carriers will need to conduct an educational process, make document changes, and revise operational procedures. In addition, the compliance date must precede the summer peak moving season, which begins May 15, 2004. FMCSA will ensure that the new compliance date provides the household goods transportation industry with this vital lead time.

Issued on: September 23, 2003.
Warren E. Hoemann,
Deputy Administrator.

[FR Doc. 03-24499 Filed 9-29-03; 8:45 am]

BILLING CODE 4910-EX-P